DEPARTMENT OF ENERGY

Federal Energy Regulatory Commission

[Project No. 2503-057]

Duke Power Company; Notice of Availability of Draft Environmental Assessment

August 18, 2000.

In accordance with the National Environmental Policy Act of 1969 and the Federal Energy Regulatory Commission's (Commission's) regulations, the Office of Energy Projects has reviewed the application filed March 24, 2000, requesting the Commission approve an amendment of license for the non-project use of project lands and waters—the leasing of 12 parcels of land totaling 11.34 acres for existing and proposed marina facilities within Keowee Key, an existing 1,600-acre residential community at Lake Keowee, and has prepared a Draft Environmental Assessment (Draft EA) for the proposed and alternative actions.

Copies of the Draft EA can be viewed at the Commission's Public Reference Room, Room 2A, 888 First Street, NE, Washington, DC 20426, or by calling (202) 208-1371. The document also may be viewed on the Web at www.ferc.fed.us/online/rims.htm. Call (202) 208-2222 for assistance.

Any comments on the Draft EA should be filed within 30 days from the date of this notice and should be addressed to Dave Boergers, Secretary, Federal Energy Regulatory Commission, 888 First Street, NE., Washington, DC 20426. Please affix “Keowee Key Marina Faiclities, Project No. 2503-057” to the first page of your comments.

For further information, please contact Jim Haimes, staff environmental protection specialist, at (202) 219-2780 or at his E-mail address: james.haimes@ferc.fed.us.

David P. Boergers,
Secretary.

[FR Doc. 00-21593 Filed 8-23-00; 8:45 am]

BILLING CODE 6717-01-M